SMALL BUSINESS ADMINISTRATION

Data Collection Available for Public Comments and Recommendations

ACTION: 60 Day Notice and request for comments.

SUMMARY: In accordance with the Paperwork Reduction Act of 1995, this notice announces the Small Business Administration's intentions to request approval on a new and/or currently approved information collection.

DATES: Submit comments on or before February 12, 2013.

ADDRESSES: Send all comments regarding whether this information collection is necessary for the proper performance of the function of the agency, whether the burden estimates are accurate, and if there are ways to minimize the estimated burden and enhance the quality of the collections, to Jose Mendez, Case Management Specialist, Office of Ombudsman, Small Business Administration, 409 3rd Street, 6th Floor, Washington, DC 20416.

FOR FURTHER INFORMATION CONTACT: Jose Mendez, Case Management Specialist, mailto: 202-205-7507%20%20gail.hepler@sba.gov 202-205-6178 jose.mendez@sba.com Curtis B. Rich, Management Analyst, 202-205-7030 curtis.rich@sba.gov.

SUPPLEMENTARY INFORMATION: The Small Business Regulatory Enforcement Fairness Act of 1966, 15 U.S.C. Sec. 657(b)(2)(B), requires the SBA National Ombudsman to establish a means for SBA to receive comments on regulatory and compliance actions from small entities regarding their disagreements with a Federal Agency action. The Ombudsman uses it to obtain the agency's response, encourage a fresh look by the agency at a high level, and build a more small business-friendly regulatory environment.

Title: Federal Agency Comment Form.

Description of Respondents: Small Business Owners and Farmer.

Form Number: 1993.

Annual Responses: 400.

Annual Burden: 300.

Curtis Rich,
Management Analyst.

[FR Doc. 2012-30153 Filed 12-13-12; 8:45 am]

BILLING CODE 8025-01-P